DEPARTMENT OF HEALTH AND HUMAN SERVICES

Administration for Children and Families

Submission for Office of Management and Budget (OMB) Review; Interstate Administrative Subpoena and Notice of Lien (Office of Management and Budget OMB #: 0970-0152)

AGENCY: Administration for Children and Families, U.S. Department of Health and Human Services.

ACTION: Request for public comments.

SUMMARY: The Administration for Children and Families (ACF) is requesting a 3-year extension with proposed revisions to the Interstate Administrative Subpoena and Notice of Lien forms (Office of Management and Budget #0970-0152, expiration 6/30/2024). The forms are updated to reflect the name change of the Federal child support program office from the Office of Child Support Enforcement to the Office of Child Support Services.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The Administrative Subpoena is used by State child support agencies to obtain income and other financial information regarding noncustodial parents for purposes of establishing, enforcing, and modifying child support orders. The Notice of Lien imposes liens in cases with overdue support and allows a State child support agency to file liens across State lines, when it is more efficient than involving the other State's IV-D agency.

Section 452(a)(11) of the Social Security Act requires the Secretary of the Department of Health and Human Services to promulgate forms for administrative subpoenas and imposition of liens used by State child support agencies in interstate cases. Section 454(9)(E) of the Social Security Act requires each State to cooperate with any other State in using the Federal forms for issuance of administrative subpoenas and imposition of liens in interstate child support cases.

Respondents: State, local, or Tribal agencies administering a child support program under title IV-D of the Social Security Act.

Annual Burden Estimates
Instrument | Annual number of respondents | Annual number of responses per respondent | Average burden hours per response | Annual burden hours
Administrative Subpoena | 54 | 462 | .5 | 12,474
Notice of Lien | 54 | 29,762 | .5 | 803,574

Estimated Total Annual Burden Hours: 816,048.

Authority: 42 U.S.C. 652; 42 U.S.C. 654.

Mary C. Jones,
ACF/OPRE Certifying Officer.

[FR Doc. 2024-06143 Filed 3-21-24; 8:45 am]

BILLING CODE 4184-41-P